DEPARTMENT OF COMMERCE

Foreign-Trade Zones Board

[B-41-2017]

Foreign-Trade Zone (FTZ) 283—West Tennessee Area; Authorization of Production Activity; MTD Consumer Group Inc.; Subzone 283A; (Landscaping Equipment and Off-Road Utility Vehicles); Martin, Tennessee

On June 1, 2017, MTD Consumer Group Inc. submitted a notification of proposed production activity to the FTZ Board for its facility within Subzone 283A, in Martin, Tennessee.

The notification was processed in accordance with the regulations of the FTZ Board (15 CFR part 400), including notice in the Federal Register inviting public comment (82 FR 27796, June 19, 2017). On September 29, 2017, the applicant was notified of the FTZ Board's decision that no further review of the activity is warranted at this time. The production activity described in the notification was authorized, subject to the FTZ Act and the FTZ Board's regulations, including Section 400.14.

Dated: October 2, 2017.
Andrew McGilvray,
Executive Secretary.

[FR Doc. 2017-21467 Filed 10-4-17; 8:45 am]

BILLING CODE 3510-DS-P